DEPARTMENT OF THE INTERIOR

National Park Service

[NPS-WASO-NAGPRA-17719; PPWOCRADN0-PCU00RP14.R50000]

Notice of Inventory Completion: State Historical Society of Iowa, Iowa City, IA

AGENCY: National Park Service, Interior.

ACTION: Notice.

SUMMARY: The State Historical Society of Iowa has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the State Historical Society of Iowa. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the State Historical Society of Iowa at the address in this notice by April 15, 2015.

ADDRESSES: Jerome Thompson or NAGPRA Coordinator, State Historical Society of Iowa, 600 East Locust, Des Moines, IA 50319, telephone (515) 281-4221, email jerome.thompson@iowa.gov.

SUPPLEMENTARY INFORMATION: Notice is here given in accordance with the Native American Graves Protection and Repatriation Act (NAGPRA), 25 U.S.C. 3003, of the completion of an inventory of human remains under the control of the State Historical Society of Iowa, Iowa City, IA. The human remains were removed from the vicinity of Little Cheyenne River, ND.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the State Historical Society of Iowa professional staff in consultation with representatives of the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe (previously listed as the Oglala Sioux Tribe of the Pine Ridge Reservation, South Dakota); Prairie Island Indian Community in the State of Minnesota; Rosebud Sioux Tribe of the Rosebud Indian Reservation, South Dakota; Santee Sioux Nation, Nebraska; Shakopee Mdewakanton Sioux Community of Minnesota; Sisseton-Wahpeton Oyate of the Lake Traverse Reservation, South Dakota; Spirit Lake Tribe, North Dakota; Standing Rock Sioux Tribe of North & South Dakota; Upper Sioux Community, Minnesota; and the Yankton Sioux Tribe of South Dakota.

History and Description of the Remains

At an unknown date, human remains representing, at minimum, one individual were placed in an envelope in a manuscript collection at the State Historical Society of Iowa research facility in Iowa City. The envelope contains human hair and on the outside has the following written description: “Scalp Lock taken from the Indian who killed Capt. Jno Fielner Co A 1st U.S.Cav Dakotah Ter by Henry N Berry.”

On June 28, 1864, Captain John Feilner, 1st U.S. Cavalry, was killed on the Little Cheyenne River in Dakota Territory. Company A of the Dakota Cavalry soon arrived at the site and proceeded to seek and kill the three men of the Dakota Nation believed responsible for Feilner's death. This incident was reported the Dubuque Herald (July 15, 1864) and the Sioux City Register (July 16, 1864), as well as in “The 1864 Sully Expedition, and the Death of Captain John Feilner,” American Nineteenth Century History, Vol. 9, No. 2, June 2008, pages 183-190.

Henry N. Berry served in Company I of the Sixth Regiment of the Iowa Volunteer Cavalry, according to the Roster and Record of Iowa Troops in the Rebellion, Vol. 4. Company I was raised primarily from Johnson (Iowa City) and Scott (Davenport) counties. The muster roll provides the following information: “Berry, Henry N. Age 18, Residence Iowa City, nativity Iowa. Enlisted September 25, 1862, as Second Sergeant, Mustered Feb. 2, 1863. Promoted Sergeant Major May 1, 1865. Mustered out Oct. 17, 1865, Sioux City, Iowa.”

The Sixth Regiment of Iowa Volunteer Cavalry was commanded by Colonel D.S. Wilson from Dubuque, IA. The Sixth Iowa served in General Sully's punitive expedition against the Dakota following the 1862 Dakota War in Minnesota. They served under Sully's command during the summer and fall campaign of 1864 (Report of the Adjutant General of Iowa, 1865, Vol. 2, pages 1358-1366). The Annals of Iowa (vol. 1864, no. 4, pp. 382-383) note H.N. Berry as one of several donors of “war relic and specimens for the cabinet of natural history and curiosities.” An 1867 catalog entry lists Henry N. Berry of Iowa City as donor of a “collection of relics brought from the plains.” The catalog entry goes on to describe some of the collection, but there is no specific mention of a scalp lock. It is reasonable to conclude that while not specifically mentioned in these early records, the source of the scalp lock was Henry N. Berry, and his service record places him in Dakota Territory at the time of the incident cited.

Determinations Made by the State Historical Society of Iowa

Officials of the State Historical Society of Iowa have determined that:

• Pursuant to 25 U.S.C. 3001(9), the human remains described in this notice represent the physical remains of one individual of Native American ancestry.

• Pursuant to 25 U.S.C. 3001(2), there is a relationship of shared group identity that can be reasonably traced between the Native American human remains and the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe (previously listed as the Oglala Sioux Tribe of the Pine Ridge Reservation, South Dakota); Prairie Island Indian Community in the State of Minnesota; Rosebud Sioux Tribe of the Rosebud Indian Reservation, South Dakota; Santee Sioux Nation, Nebraska; Shakopee Mdewakanton Sioux Community of Minnesota; Sisseton-Wahpeton Oyate of the Lake Traverse Reservation, South Dakota; Spirit Lake Tribe, North Dakota; Standing Rock Sioux Tribe of North & South Dakota; Upper Sioux Community, Minnesota; and the Yankton Sioux Tribe of South Dakota.

Additional Requestors and Disposition

Lineal descendants or representatives of any Indian tribe or Native Hawaiian organization not identified in this notice that wish to request transfer of control of these human remains should submit a written request with information in support of the request to Jerome Thompson or NAGPRA Coordinator, State Historical Society of Iowa, 600 East Locust, Des Moines, IA 50319, telephone (515) 281-4221, email jerome.thompson@iowa.gov, April 15, 2015. After that date, if no additional requestors have come forward, transfer of control of the human remains to the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe (previously listed as the Oglala Sioux Tribe of the Pine Ridge Reservation, South Dakota); Prairie Island Indian Community in the State of Minnesota; Rosebud Sioux Tribe of the Rosebud Indian Reservation, South Dakota; Santee Sioux Nation, Nebraska; Shakopee Mdewakanton Sioux Community of Minnesota; Sisseton-Wahpeton Oyate of the Lake Traverse Reservation, South Dakota; Spirit Lake Tribe, North Dakota; Standing Rock Sioux Tribe of North & South Dakota; Upper Sioux Community, Minnesota; and the Yankton Sioux Tribe of South Dakota may proceed.

The State Historical Society of Iowa is responsible for notifying the Assiniboine and Sioux Tribes of the Fort Peck Indian Reservation, Montana; Cheyenne River Sioux Tribe of the Cheyenne River Reservation, South Dakota; Crow Creek Sioux Tribe of the Crow Creek Reservation, South Dakota; Flandreau Santee Sioux Tribe of South Dakota; Lower Brule Sioux Tribe of the Lower Brule Reservation, South Dakota; Lower Sioux Indian Community in the State of Minnesota; Oglala Sioux Tribe (previously listed as the Oglala Sioux Tribe of the Pine Ridge Reservation, South Dakota); Prairie Island Indian Community in the State of Minnesota; Rosebud Sioux Tribe of the Rosebud Indian Reservation, South Dakota; Santee Sioux Nation, Nebraska; Shakopee Mdewakanton Sioux Community of Minnesota; Sisseton-Wahpeton Oyate of the Lake Traverse Reservation, South Dakota; Spirit Lake Tribe, North Dakota; Standing Rock Sioux Tribe of North & South Dakota; Upper Sioux Community, Minnesota; and the Yankton Sioux Tribe of South Dakota that this notice has been published.

Dated: February 23, 2015.
Melanie O'Brien,
Acting Manager, National NAGPRA Program.

[FR Doc. 2015-05991 Filed 3-13-15; 8:45 am]

BILLING CODE 4312-50-P